DEPARTMENT OF THE INTERIOR

Bureau of Indian Affairs

Renewal of Agency Information Collection for Higher Education Grant Program Application; Request for Comments

AGENCY: Bureau of Indian Affairs, Interior.

ACTION: Notice of request for comments.

SUMMARY: In compliance with the Paperwork Reduction Act of 1995, the Bureau of Indian Education (BIE) is seeking comments on renewal of Office of Management and Budget (OMB) approval for the collection of information for the Higher Education Grant Program Application. The information collection is currently authorized by OMB Control Number 1076-0101, which expires November 30, 2011.

DATES: Interested persons are invited to submit comments on or before September 13, 2011.

ADDRESSES: You may submit comments on the information collection to Brandi Sweet, U.S. Department of the Interior, Bureau of Indian Education, 1849 C Street, NW., MS-4141, Washington, DC 20240, fax (202) 208-3312; e-mail: Brandi.Sweet@bie.edu.

FOR FURTHER INFORMATION CONTACT: Brandi Sweet, U.S. Department of the Interior, Bureau of Indian Education. Telephone (202) 208-5504.

SUPPLEMENTARY INFORMATION:

I. Abstract

The Bureau of Indian Education (BIE) is seeking renewal of the approval for the information collection conducted under 25 CFR Part 40, requiring prospective students to provide certain information to allow BIE to make a determination in the eligibility of an applicant for funding. This information is collected on a grant application form. This renewal does not include any change to the form or burden hours.

II. Request for Comments

The Bureau of Indian Education requests that you send your comments on this collection to the location listed in the ADDRESSES section. Your comments should address: (a) The necessity of the information collection for the proper performance of the agencies, including whether the information will have practical utility; (b) the accuracy of our estimate of the burden (hours and costs) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. This information collection expires November 30, 2011.

It is our policy to make all comments available to the public for review at the location listed in the ADDRESSES section during the hours of 9 a.m.-5 p.m., Eastern Time, Monday through Friday except for legal holidays. Before including your address, telephone number, e-mail address or other personally identifiable information, be advised that your entire comment—including your personally identifiable information—may be made public at any time. While you may request that we withhold your personally identifiable information, we cannot guarantee that we will be able to do so.

III. Data

OMB Control Number: 1076-0101.

Title: Higher Education Grant Application, 25 CFR part 40.

Brief Description of Collection: Submission of this information allows respondents receiving a benefit to annually complete the form to demonstrate unmet financial need for consideration of a grant. Response is required to obtain a benefit.

Type of Review: Extension without change of a currently approved collection.

Respondents: Students through the tribally controlled institutions of higher education.

Number of Respondents: 14,000 per year, on average.

Frequency of Response: Once per year.

Estimated Time per Response: 1 hour.

Estimated Total Annual Burden: 14,000 hours.

Dated: July 6, 2011.
Alvin Foster,
Acting Chief Information Officer—Indian Affairs.

[FR Doc. 2011-17792 Filed 7-14-11; 8:45 am]

BILLING CODE 4310-6W-P